DEPARTMENT OF ENERGY

Federal Energy Regulatory Commission

[Project No. 13639-000]

North Unit Irrigation District; Notice of Competing Preliminary Permit Application Accepted for Filing and Soliciting Comments

January 6, 2010.

On December 9, 2009, North Unit Irrigation District filed an application for a preliminary permit, pursuant to section 4(f) of the Federal Power Act, proposing to study the feasibility of the North Unit Diversion Dam Hydroelectric Project, located on the Deschutes River in Deschutes County, Oregon. The sole purpose of a preliminary permit, if issued, is to grant the permit holder priority to file a license application during the permit term. A preliminary permit does not authorize the permit holder to perform any land disturbing activities or otherwise enter upon lands or waters owned by others without the owners' express permission.

The proposed project would utilize the existing North Canal Diversion Dam; and would consist of the following new facilities: (1) An approximately 50-foot-long, 8- to 10-foot-diameter penstock to accommodate flows up to 800 cubic feet per second; (2) a powerhouse containing two generating units having an installed capacity of 1.8 megawatts; (3) an approximately 500-foot-long, 21-kilovolt-ampere transmission line; and (4) appurtenant facilities. The proposed project would have an average annual generation of 7.2 gigawatt-hours.

Applicant Contact: Mike Britton, North Unit Irrigation District, 2024 NW. Beech Street, Madras, OR 97741, phone: (541) 475-3625, e-mail: nuid@palmain.com.

FERC Contact: Gina Krump, phone: (202) 502-6704, e-mail: gina.krump@ferc.gov.

Competing Applications: This application competes with Project No. 13560-000 filed August 27, 2009 and Project No. 13617-000 filed November 6, 2009.

Deadline for filing comments and motions to intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13639) in the docket number field to access the document. For assistance, contact FERC Online Support.

Kimberly D. Bose,
Secretary.

[FR Doc. 2010-527 Filed 1-13-10; 8:45 am]

BILLING CODE 6717-01-P